DEPARTMENT OF THE INTERIOR

Bureau of Land Management

[LLCON04000. L16100000.DR0000]

Notice of Availability of the Record of Decision for the Colorado River Valley Field Office Approved Resource Management Plan

AGENCY: Bureau of Land Management, Interior.

ACTION: Notice.

SUMMARY: The Bureau of Land Management (BLM) announces the availability of the Record of Decision (ROD) and Approved Resource Management Plan (RMP) for the Colorado River Valley Field Office located in portions of Eagle, Garfield, Mesa, Pitkin, Rio Blanco, and Routt counties in northwest Colorado. The Colorado State Director signed the ROD on June 11, 2015, which constitutes the BLM's final decision and makes the approved RMP effective immediately.

ADDRESSES: Copies of the ROD/approved RMP are available upon request from the Field Manager, BLM Colorado River Valley Field Office, 2300 River Frontage Road, Silt, CO 81652 or via the Internet at http://www.blm.gov/co/st/en/fo/crvfo.html. Copies of the Colorado River Valley Field Office ROD and approved RMP are available for public inspection at the Colorado River Valley Field Office.

FOR FURTHER INFORMATION CONTACT: Brian Hopkins, Planning and Environmental Coordinator; telephone: 970-876-9073; address: 2300 River Frontage Road in Silt, CO 81652; email: bhopkins@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The field office has worked with the public, interest groups, stakeholders, cooperating agencies, tribes, the Northwest Colorado Resource Advisory Council, neighboring BLM offices, the Environmental Protection Agency, the U.S. Forest Service, and the U.S. Fish and Wildlife Service to craft the revised RMP. The result is an approved RMP that seeks to provide an overall balance between the protection, restoration, and enhancement of natural and cultural values, while allowing resource use and development in identified areas. Goals and objectives focus on environmental, economic, and social outcomes achieved by strategically addressing them on a landscape scale. Management direction is broad to accommodate a variety of interests and uses.

The BLM initiated scoping for the RMP in 2007 and collected information and public input via public meetings and interviews in order to develop the Draft RMP/Environmental Impact Statement (EIS) in September 2011. Based on public and agency comments, the BLM carried forward the preferred alternative with some edits as the Proposed RMP/Final EIS. The BLM published the Proposed RMP/Final EIS in March 2014 and made it available for a 30-day public protest period beginning on March 24, 2014. During the protest period, the BLM received protests on a variety of issues. Following the protest resolution, the BLM made minor editorial modifications to the approved RMP to provide further clarification of some decisions.

BLM regulations also require a 60-day Governor's Consistency Review period for the Proposed RMP/Final EIS to ensure consistency with State government plans or policies. The Governor did not identify any inconsistencies with State government plans or policies. The response letter stated that the State is grateful that the BLM has chosen to rely upon the Upper Colorado River Wild and Scenic Stakeholder Group Management Plan in concert with BLM management authorities to protect Colorado River segments. This approach is consistent with Colorado policy and law to support stakeholder efforts to develop protection of river-dependent resources as alternatives to Wild and Scenic River designation.

Management decisions outlined in the approved RMP apply only to BLM-managed surface lands (approximately 505,200 acres) and BLM-managed Federal mineral estate (approximately 701,200 acres) that lies beneath other Federal, State and private surface ownership with the exception of National Forest lands. The approved RMP will replace the 1984 Glenwood Springs Resource Area RMP. The approved RMP outlines goals, objectives, management actions, and allowable uses for resources and land uses including: Air, soil, water, upland and riparian vegetation, fish and wildlife, cultural resources, visual resources, forestry, livestock, grazing, minerals, energy development and recreation. While the RMP also proposes conservation management for Greater Sage-grouse habitat, the Northwest Colorado BLM Greater Sage-Grouse Plan Amendment and EIS will fully analyze the applicable Greater Sage-grouse conservation measures, consistent with BLM Instruction Memorandum No. 2012-044. The BLM expects to make a comprehensive set of decisions for managing Greater Sage-grouse on lands administered by the Colorado River Valley Field Office in the ROD for the Northwest Colorado BLM Greater Sage-Grouse Plan Amendment and EIS.

The approved RMP includes some implementation decisions designating routes of travel which are appealable to the Interior Board of Land Appeals under 43 CFR part 4. The route decisions are displayed by travel zone in Appendix A of the approved RMP. Any party adversely affected by the proposed route designations may appeal within 30 days of publication of this Notice of Availability pursuant to 43 CFR part 4, subpart E. The appeal should state the specific route(s), as identified in Appendix A of the approved RMP, on which the decision is being appealed.

The appeal must be filed with the Colorado River Valley Field Manager at the above listed address. Please consult the appropriate regulations (43 CFR part 4, subpart E) for further appeal requirements.

Authority: 40 CFR 1506.6

Ruth Welch,
BLM Colorado State Director.

[FR Doc. 2015-16431 Filed 7-7-15; 8:45 am]

BILLING CODE 4310-JB-P